DEPARTMENT OF JUSTICE

Notice of Lodging of Proposed Consent Decree Under the Comprehensive Environmental Response, Compensation, and Liability Act

On Friday, August 14, 2015, the Department of Justice lodged a proposed Consent Decree with the United States District Court for the Eastern District of Washington in the lawsuit entitled United States v. Klickitat County Port District No. 1, Civil Action No. 1:15-CV-03051-RMP.

The United States initiated this civil action on behalf of the United States Environmental Protection Agency against the Klickitat County Port District No. 1 (the “Port”) pursuant to Section 107 of the Comprehensive Environmental Response, Compensation, and Liability Act, 42 U.S.C. 9607, to recover response costs incurred in connection with the release and threatened release of hazardous substances from the Recycled Aluminum Metals Company Aluminum Waste Disposal Site (the “Site”) located in Klickitat County, Washington.

Between 1979 and 1991 the Port continuously owned the Site during which time now-defunct lessees deposited waste from secondary aluminum smelting operations into an unlined landfill on the Site. In 2010, the United States conducted a removal action to prevent hazardous substances from leaching into the groundwater and threatening human populations. Under the terms of the proposed Consent Decree, the Port will pay $2,000,000 to reimburse the United States for its past response costs incurred during the removal action. In exchange, the Port will receive a covenant protecting it from further action to recover past response costs as that term is defined in the proposed Consent Decree.

The publication of this notice opens a period for public comment on the proposed Consent Decree. Comments should be addressed to the Assistant Attorney General, Environment and Natural Resources Division, and should refer to United States v. Klickitat County Port District No. 1, D.J. Ref. No. 90-11-3-10906. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed Consent Decree may be examined and downloaded at this Justice Department Web site: http://www.justice.gov/enrd/consent-decrees. We will provide a paper copy of the proposed Consent Decree upon written request and payment of reproduction costs. Please mail your request and payment to:

Consent Decree Library, U.S. DOJ—ENRD, P.O. Box 7611, Washington, DC 20044-7611.

Please enclose a check or money order for $6.75 (25 cents per page reproduction cost) payable to the United States Treasury.

Susan M. Akers,
Assistant Section Chief, Environmental Enforcement Section, Environment and Natural Resources Division.

[FR Doc. 2015-20307 Filed 8-17-15; 8:45 am]

BILLING CODE 4410-15-P